FEDERAL COMMUNICATIONS COMMISSION

47 CFR Parts 73 and 74

[MB Docket No. 15-146; GN Docket No. 12-268; Report No. 3169; FRS 17596]

Petition for Reconsideration of Action in Proceedings

AGENCY: Federal Communications Commission.

ACTION: Petition for Reconsideration.

SUMMARY: Petition for Reconsideration (Petition) has been filed in the Commission's proceeding by Michael Lazarus, on behalf Sennheiser Electronic Corporation and Catherine Wang, on behalf of Shure Incorporated.

DATES: Oppositions to the Petition must be filed on or before April 9, 2021. Replies to an opposition must be filed on or before April 19, 2021.

ADDRESSES: Federal Communications Commission, 45 L Street NE, Washington, DC 20554.

FOR FURTHER INFORMATION CONTACT: Shaun Maher, Media Bureau, (202) 418-2324.

SUPPLEMENTARY INFORMATION: This is a summary of the Commission's document, Report No. 3169, released March 17, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Amendment of Parts 15, 73 and 74 of the Commission's Rules to Provide for the Preservation of One Vacant Channel in the UHF Television Band For Use By White Spaces Devices and Wireless Microphones, published 86 FR 9297, February 12, 2021, in MB Docket No 15-146. This document is being published pursuant to 47 CFR 1.429(e). See also 47 CFR 1.4(b)(1) and 1.429(f), (g).

Number of Petitions Filed: 2.

Federal Communications Commission.
Marlene Dortch,
Secretary, Office of the Secretary.

[FR Doc. 2021-06099 Filed 3-24-21; 8:45 am]

BILLING CODE 6712-01-P